DEPARTMENT OF THE TREASURY

United States Mint

Notice of Meeting

ACTION: Notification of Citizens Coinage Advisory Committee June 29, 2009 Public Meeting.

SUMMARY: Pursuant to United States Code, Title 31, section 5135(b)(8)(C), the United States Mint announces the Citizens Coinage Advisory Committee (CCAC) public meeting scheduled for June 29, 2009.

DATES: June 29, 2009.

Time: 6:30 p.m. to 9 p.m.

Location: Gaylord Hall in the Worner Center, Campus of Colorado College, 902 N. Cascade Ave., Colorado Springs, CO 80903.

Subject: Review candidate designs for the 2010 Boy Scouts of America Centennial Commemorative Coin Act and the United States Mint Director Edmund C. Moy medal.

Interested persons should call 202-354-7502 for the latest update on meeting time and room location.

In accordance with 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: Cliff Northup, United States Mint Liaison to the CCAC; 801 9th Street, NW.; Washington, DC 20220; or call 202-354-7200.

Any member of the public interested in submitting matters for the CCAC's consideration is invited to submit them by fax to the following number: 202-756-6830.

Authority: 31 U.S.C. 5135(b)(8)(C).

Dated: May 22, 2009.
Edmund C. Moy,
Director, United States Mint.

[FR Doc. E9-12422 Filed 5-27-09; 8:45 am]

BILLING CODE P